DEPARTMENT OF COMMERCE

Foreign-Trade Zones Board

[Order No. 2017]

Reorganization of Foreign-Trade Zone 261 Under Alternative Site Framework; Alexandria, Louisiana

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the England Economic & Industrial Development District, grantee of Foreign-Trade Zone 261, submitted an application to the Board (FTZ Docket B-37-2016, docketed May 25, 2016) for authority to reorganize under the ASF with a service area of Rapides Parish, Louisiana, adjacent to the Morgan City Customs and Border Protection port of entry, to remove Site 3 from the zone, and FTZ 261's existing Sites 1 and 2 would be categorized as magnet sites;

Whereas, notice inviting public comment was given in the Federal Register (81 FR 35298, June 2, 2016) and the application has been processed pursuant to the FTZ Act and the Board's regulations; and,

Whereas, the Board adopts the findings and recommendations of the examiner's report, and finds that the requirements of the FTZ Act and the Board's regulations are satisfied;

Now, therefore, the Board hereby orders:

The application to reorganize FTZ 261 under the ASF is approved, subject to the FTZ Act and the Board's regulations, including Section 400.13, to the Board's standard 2,000-acre activation limit for the zone, and to an ASF sunset provision for magnet sites that would terminate authority for Site 2 if not activated within five years from the month of approval.

Dated: November 1, 2016.
Paul Piquado,
Assistant Secretary of Commerce for Enforcement and Compliance, Alternate Chairman, Foreign-Trade Zones Board.
Andrew McGilvray,
Executive Secretary.

[FR Doc. 2016-27318 Filed 11-10-16; 8:45 am]

BILLING CODE 3510-DS-P